DEPARTMENT OF AGRICULTURE

Farm Service Agency

7 CFR Part 723

RIN 0560-AG40

Amendments to the Tobacco Marketing Quota Regulations

AGENCY: Farm Service Agency, USDA.

ACTION: Final rule; correction.

SUMMARY: This is a correction of a document the United States Department of Agriculture (USDA) Farm Service Agency (FSA) published in the Federal Register of October 23, 2001 that amended its tobacco marketing quota regulations. In that rule, a paragraph number was left out of the instruction for revision number 5. This document adds that paragraph number.

EFFECTIVE DATE: October 23, 2001.

FOR FURTHER INFORMATION CONTACT: Joe Lewis, Jr. (202) 720-0795

SUPPLEMENTARY INFORMATION: FSA published a document entitled, “Amendments to the Tobacco Marketing Quota Regulations” on October 23, 2001, (66 FR 53509). The paragraph number in revision number 5 was listed as § 723.206(c)(1), but should have been § 723.206(c)(1)(i). This correction adds that sub-paragraph number.

In rule FR Doc. 01-26543 published on October 23, 2001, (66 FR 53507) make the following correction: On page 53509, revise instruction 5 to read as follows:

“5. Revise § 723.206(c)(1)(i) to read as follows:”.

Signed at Washington, DC on November 7, 2001.
James R. Little,
Administrator, Farm Service Agency and Executive Vice President, Commodity Credit Corporation.

[FR Doc. 01-29706 Filed 11-29-01; 8:45 am]

BILLING CODE 3410-05-P